DEPARTMENT OF COMMERCE

International Trade Administration

[A-412-801]

Ball Bearings and Parts Thereof From the United Kingdom: Third Amended Final Results of Antidumping Duty Administrative Review Pursuant to Court Decision; 2010-2011

AGENCY: Enforcement and Compliance, International Trade Administration, Department of Commerce.

SUMMARY: On March 26, 2020, the United States Court of International Trade (CIT) sustained the October 2019 final results of redetermination pertaining to the administrative review of the antidumping duty order on ball bearings and parts thereof (ball bearings) from the United Kingdom covering the period May 1, 2010 through April 30, 2011. The Department of Commerce (Commerce) is, therefore, amending the final results with respect to Bayerische Motoren Werke AG (BMW).

DATES: Applicable June 3, 2020.

FOR FURTHER INFORMATION CONTACT: Thomas Schauer, AD/CVD Operations, Office I, Enforcement and Compliance, International Trade Administration, U.S. Department of Commerce, 1401 Constitution Avenue NW, Washington, DC 20230; telephone: (202) 482-0410.

SUPPLEMENTARY INFORMATION:

Background

On January 27, 2015, Commerce published the Final Results in the above-referenced administrative review.¹ Commerce selected the highest rate from the petition (254.25 percent) as the weighted-average dumping margin for BMW based on adverse facts available (AFA). BMW of North America LLC appealed the Final Results to the CIT, and on March 2, 2017, the CIT remanded the Final Results.² Specifically, the CIT remanded the Final Results directing that Commerce either: (1) Provide a new corroboration analysis for the selected petition rate that is consistent with Commerce's obligations and the Court's opinion; or (2) determine a new AFA rate consistent with Commerce's obligations and the Court's opinion.³

¹ See Ball Bearings and Parts Thereof from Japan and the United Kingdom: Final Results of Antidumping Duty Administrative Reviews; 2010-2011, 80 FR 4248 (January 27, 2015), amended in Ball Bearings and Parts Thereof from the United Kingdom: Amended Final Results of Antidumping Duty Administrative Review; 2010-2011, 80 FR 9694 (February 24, 2015) (Final Results).

² See BMW of North America LLC v. United States, Court No. 15-00052, Slip Op. 17-22 (CIT March 2, 2017) (First Remand).

³ See First Remand at 12-17.

On May 12, 2017, Commerce issued its final results of redetermination pursuant to remand, in accordance with the CIT's order.⁴ On remand, Commerce determined a new AFA rate of 126.44 percent for BMW, consistent with the First Remand. On August 23, 2017, the CIT sustained Commerce's First Redetermination.⁵ On September 2, 2017, Commerce published the Second Amended Final Results in the Federal Register.⁶

⁴ See Results Of Remand Redetermination, BMW of North America LLC v. United States, Court No. 15-00052, Slip Op. 17-22, dated May 12, 2017 (First Redetermination).

⁵ See BMW of North America LLC v. United States, Slip Op. 17-109, Consol. Court No. 15-00052 (CIT 2017).

⁶ See Ball Bearings and Parts Thereof From the United Kingdom: Notice of Court Decision Not in Harmony With Amended Final Results and Notice of Second Amended Results of Antidumping Duty Administrative Review, 82 FR 42296 (September 2, 2017) (Second Amended Final Results).

The CIT's ruling was appealed to the U.S. Court of Appeals for the Federal Circuit (CAFC). On appeal, the CAFC concluded that “Commerce did not set forth its reasoning in sufficient detail to allow review of whether the selected AFA rate was unduly punitive” and remanded the case.⁷ Based on the CAFC's decision, the CIT issued the Second Remand on July 3, 2019.⁸

⁷ See BMW of North America LLC v. United States, 926 F.3d 1291, 1293 and 1302 (CAFC May 9, 2019).

⁸ See BMW of North America LLC v. United States, Court No. 15-00052 Order at 1 (CIT July 3, 2019) (Second Remand).

On October 1, 2019, Commerce issued its final results of redetermination in accordance with the Second Remand.⁹ On remand, Commerce determined a new AFA rate of 61.14 percent for BMW, consistent with the Second Remand. On March 26, 2020, the CIT sustained Commerce's Second Redetermination.¹⁰

⁹ See Results Of Remand Redetermination, BMW of North America LLC v. United States, Court No. 2018-1109, dated October 1, 2019 (Second Redetermination).

¹⁰ See BMW of North America LLC v. United States, Slip Op. 20-41, Consol. Court No. 15-00052 (CIT March 26, 2020).

Amended Final Results

Because there is now a final court decision, Commerce is amending the Final Results with respect to BMW. The revised weighted-average dumping margin for BMW for the period May 1, 2010 through April 30, 2011, is as follows:

Exporter or producer | Weighted- average dumping margin (percent)
Bayerische Motoren Werke AG | 61.14

Liquidation and Assessment of Antidumping Duties

In the event the CIT's ruling is not appealed, or if it is appealed and upheld by a final and conclusive court decision, Commerce will instruct U.S. Customs and Border Protection (CBP) to assess antidumping duties at a rate equal to the weighted-average dumping margin listed above for all entries of subject merchandise during the period May 1, 2010 through April 30, 2011, that were produced and/or exported by BMW.

Cash Deposit Requirements

Because we revoked the antidumping duty order on ball bearings and parts thereof from the United Kingdom effective September 15, 2011, no cash deposits for estimated antidumping duties on future entries of subject merchandise are required.¹¹

¹¹ See Ball Bearings and Parts Thereof from Japan and the United Kingdom: Final Results of Sunset Reviews and Revocation of Antidumping Duty Orders, 79 FR 16771 (March 26, 2014).

Notification to Interested Parties

This notice is issued and published in accordance with sections 516A(e)(1), 751(a)(1) and 777(i)(1) of the Act. Note that Commerce has temporarily modified certain of its requirements for serving documents containing business proprietary information, until May 19, 2020, unless extended.¹²

¹² See Temporary Rule Modifying AD/CVD Service Requirements Due to COVID-19, 85 FR 17006 (March 26, 2020).

Dated: March 31, 2020.
Jeffrey I. Kessler,
Assistant Secretary for Enforcement and Compliance.

[FR Doc. 2020-11953 Filed 6-2-20; 8:45 am]

BILLING CODE 3510-DS-P